DEPARTMENT OF COMMERCE

National Institute of Standards and Technology

[Docket No. 171010985-7985-01]

National Cybersecurity Center of Excellence (NCCoE) Securing Property Management Systems for the Hospitality Sector

AGENCY: National Institute of Standards and Technology, Department of Commerce.

ACTION: Notice.

SUMMARY: The National Institute of Standards and Technology (NIST) invites organizations to provide products and technical expertise to support and demonstrate security platforms for Securing Property Management Systems for the Hospitality Sector. This notice is the initial step for the National Cybersecurity Center of Excellence (NCCoE) in collaborating with technology companies to address cybersecurity challenges identified under the Hospitality Sector program. Participation in the use case is open to all interested organizations.

DATES: Interested parties must contact NIST to request a letter of interest template to be completed and submitted to NIST. Letters of interest will be accepted on a first come, first served basis. Collaborative activities will commence as soon as enough completed and signed letters of interest have been returned to address all the necessary components and capabilities, but no earlier than December 26, 2017. When the use case has been completed, NIST will post a notice on the NCCoE Hospitality Sector program Web site at https://nccoe.nist.gov/projects/use-cases/securing-property-management-systems announcing the completion of the use case and informing the public that it will no longer accept letters of interest for this use case.

ADDRESSES: The NCCoE is located at 9700 Great Seneca Highway, Rockville, MD 20850. Letters of interest must be submitted to hospitality-nccoe@nist.gov or via hardcopy to National Institute of Standards and Technology, NCCoE; 9700 Great Seneca Highway, Rockville, MD 20850. Organizations whose letters of interest are accepted in accordance with the process set forth in the SUPPLEMENTARY INFORMATION section of this notice will be asked to sign a consortium Cooperative Research and Development Agreement (CRADA) with NIST. An NCCoE consortium CRADA template can be found at: http://nccoe.nist.gov/node/138.

FOR FURTHER INFORMATION CONTACT: Mr. William Newhouse via email to hospitality-nccoe@nist.gov; by telephone (301) 975-0232; or by mail to National Institute of Standards and Technology, NCCoE; 9700 Great Seneca Highway, Rockville, MD 20850. Additional details about the Hospitality Sector program are available at https://nccoe.nist.gov/projects/use-cases/securing-property-management-systems.

SUPPLEMENTARY INFORMATION:

Background: The NCCoE, part of NIST, is a public-private collaboration for accelerating the widespread adoption of integrated cybersecurity tools and technologies. The NCCoE brings together experts from industry, government, and academia under one roof to develop practical, interoperable cybersecurity approaches that address the real-world needs of complex Information Technology (IT) systems. By accelerating dissemination and use of these integrated tools and technologies for protecting IT assets, the NCCoE will enhance trust in U.S. IT communications, data, and storage systems; reduce risk for companies and individuals using IT systems; and encourage development of innovative, job-creating cybersecurity products and services.

Process: NIST is soliciting responses from all sources of relevant security capabilities (see below) to enter into a Cooperative Research and Development Agreement (CRADA) to provide products and technical expertise to support and demonstrate security platforms for the Securing Property Management Systems for the Hospitality Sector. The full use case can be viewed at: https://nccoe.nist.gov/projects/use-cases/securing-property-management-systems.

Interested parties should contact NIST using the information provided in the FOR FURTHER INFORMATION CONTACT section of this notice. NIST will then provide each interested party with a letter of interest template, which the party must complete, certify that it is accurate, and submit to NIST. NIST will contact interested parties if there are questions regarding the responsiveness of the letters of interest to the use case objective or requirements identified below. NIST will select participants who have submitted complete letters of interest on a first come, first served basis within each category of product components or capabilities listed below up to the number of participants in each category necessary to carry out this use case. However, there may be continuing opportunity to participate even after initial activity commences. Selected participants will be required to enter into a consortium CRADA with NIST (for reference, see ADDRESSES section above). NIST published a notice in the Federal Register on October 19, 2012 (77 FR 64314) inviting U.S. companies to enter into National Cybersecurity Excellence Partnerships (NCEPs) in furtherance of the NCCoE. For this demonstration project, NCEP partners will not be given priority for participation.

Use Case Objective: The objective of this project is to help the hospitality industry implement stronger security measures and reduce vulnerabilities within and around their Property Management Systems (PMS), with a focus on the connection to a point-of-sale (POS) system. The project will identify typical hotel IT infrastructures and PMS-POS configurations, systems, and components that integrate or interface with both applications. The project will also identify interactions between PMS operators and authorized third-party service provider (SP) systems (e.g., online booking, customer relationship marketing partners, etc.). This project will result in a NIST Cybersecurity Practice Guide—a publicly available description of the solution and practical steps needed to effectively secure property management systems. A detailed description of the Securing Property Management Systems Use Case is available at: https://nccoe.nist.gov/projects/use-cases/securing-property-management-systems.

Requirements: Each responding organization's letter of interest should identify which security platform component(s) or capability(ies) it is offering. Letters of interest should not include company proprietary information, and all components and capabilities must be commercially available. Components are listed in section 3 of the Securing Property Management Systems Project Description for the Hospitality Sector (for reference, please see the link in the PROCESS section above) and include, but are not limited to:

• PMS and POS system(s)

• Point-to-Point Encryption (P2PE)

• Data tokenization

• Multifactor authentication mechanism

• Access control platform

• User behavior analytics

• Network analytics

• Data logging

• Data storage

• Virtualization

Each responding organization's letter of interest should identify how their products address one or more of the following desired solution characteristics in section 3 of the Securing Property Management Systems for the Hospitality Sector (for reference, please see the link in the PROCESS section above):

1. Auditing, analytics and response capabilities such as:

• Complete, near real-time auditing and reporting of activity, including:

○ User behavior analytics

○ Unauthorized access

○ Unauthorized user behavior

○ Network analytics

○ Access requests and decisions

• Automated detection and/or response to incidents

• Continuous monitoring and retention of information on component interactions

• Continuous monitoring and retention of network events

2. System Protection and Authentication capabilities with enforcement such as:

• Access control for internal and third-party users, including:

○ Access control policy creation

○ Determination of access control decisions based on policies

○ Access control policy enforcement

• Multifactor Authentication for remote and third-party access

• Adherence to principles of segmentation and zero-trust, including:

○ Multiple trust zones and logical trust boundaries

○ Network segmentation gateways

○ Network virtualization platform and micro-segmentation

3. Data Protection and Encryption capabilities to prevent damage to PCI/PII confidentiality, as well as the confidentiality and integrity of system data such as:

• Point-to-point encryption (P2PE)

• Limited/no storing/processing/transmission of payment card data

• Secure data tokenization and token management capabilities, including:

○ Token generation

○ Token mapping

○ Cryptographic key management

• Utilization of a non-PCI, sensitive consumer secure data vault

• Prevention of damage to PCI/PII confidentiality

• Prevention of damage to PMS functionality and security, and improved mitigation of cybersecurity risks

• Secure Payment Terminal

• Payment Information Proxy service

Responding organizations need to understand and, in their letters of interest, commit to provide:

1. Access for all participants' project teams to component interfaces and the organization's experts necessary to make functional connections among security platform components.

2. Support for development and demonstration of the Securing Property Management Systems for the Hospitality Sector in NCCoE facilities, which will be conducted in a manner consistent with the following standards and guidance: FIPS 140-2, FIPS 200, FIPS 201, SP 800-53, SP 800-63-3, and Payment Card Industry Data Security Standard (PCI-DSS).

Additional details about the Securing Property Management Systems for the Hospitality Sector use case are available at: https://nccoe.nist.gov/projects/use-cases/securing-property-management-systems.

NIST cannot guarantee that all of the products proposed by respondents will be used in the demonstration. Each prospective participant will be expected to work collaboratively with NIST staff and other project participants under the terms of the consortium CRADA in the development of the Securing Property Management Systems for the Hospitality Sector capability. Prospective participants' contribution to the collaborative effort will include assistance in establishing the necessary interface functionality, connection and set-up capabilities and procedures, demonstration harnesses, environmental and safety conditions for use, integrated platform user instructions, and demonstration plans and scripts necessary to demonstrate the desired capabilities. Each participant will train NIST personnel, as necessary, to operate its product in capability demonstrations to the Hospitality community. Following successful demonstrations, NIST will publish a description of the security platform and its performance characteristics sufficient to permit other organizations to develop and deploy security platforms that meet the security objectives of the Securing Property Management Systems for the Hospitality Sector use case. These descriptions will be public information.

Under the terms of the consortium CRADA, NIST will support development of interfaces among participants' products by providing IT infrastructure, laboratory facilities, office facilities, collaboration facilities, and staff support to component composition, security platform documentation, and demonstration activities.

The dates of the demonstration of the Securing Property Management Systems for the Hospitality Sector capability will be announced on the NCCoE Web site at least two weeks in advance at http://nccoe.nist.gov/. The expected outcome of the demonstration is to improve Securing Property Management Systems across an entire Hospitality Sector enterprise. Participating organizations will gain from the knowledge that their products are interoperable with other participants' offerings.

For additional information on the NCCoE governance, business processes, and NCCoE operational structure, visit the NCCoE Web site http://nccoe.nist.gov/.

Kevin Kimball,
NIST Chief of Staff.

[FR Doc. 2017-25427 Filed 11-22-17; 8:45 am]

BILLING CODE 3510-13-P